DEPARTMENT OF COMMERCE

National Oceanic and Atmospheric Administration

[RTID 0648-XC770]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two day in-person meeting of its Shrimp Advisory Panel (AP).

DATES: The meeting will convene Wednesday, March 15, 2023, from 8:30 a.m. to 4:30 p.m. and Thursday, March 16, 2023, from 8:30 a.m. to 2:30 p.m., EST. For agenda details, see SUPPLEMENTARY INFORMATION.

ADDRESSES: The meeting will take place at the Gulf Council office. Registration information will be available on the Council's website by visiting www.gulfcouncil.org and clicking on the Shrimp AP meeting on the calendar.

Council address: Gulf of Mexico Fishery Management Council, 4107 W Spruce Street, Suite 200, Tampa, FL 33607; telephone: (813) 348-1630.

FOR FURTHER INFORMATION CONTACT: Dr. Matt Freeman, Economist, Gulf of Mexico Fishery Management Council; matt.freeman@gulfcouncil.org, telephone: (813) 348-1630.

SUPPLEMENTARY INFORMATION: The following items are on the agenda, though agenda items may be addressed out of order (changes will be noted on the Council's website when possible).

Wednesday, March 15, 2023; 8:30 a.m.-4:30 p.m. EST (7:30 a.m.-3:30 p.m. CST)

Meeting will begin with Election of Chair and Vice Chair, Adoption of Agenda, Approval of Summary from November 15, 2022, meeting, and Scope of Work. The AP will review and discuss Council Actions in Response to Motions from the November 15, 2022, Shrimp AP Meeting; receive updates on the Shrimp Effort Estimation Model and 2021 Gulf Shrimp Fishery Effort; and receive information on the Status of Secure Digital (SD) Card Returns and Update from Southeast Fishery Science Center (SEFSC) on Use of Port Agents to Promote the Return of SD Cards, including background materials.

The AP will receive updates on the National Marine Fisheries Service (NMFS) Vessel Monitoring System (VMS) and the LGL Ecological Research Associates P-Sea WindPlot projects, review the Draft Shrimp Framework Action and be updated on Congressional Funding for Shrimp Vessel Position Data Reporting, and receive information on the 2021 Gulf Shrimp Fishery Landings, the Biological Review of 2022 Texas Closure, and the 2021 Royal Red Landings.

Thursday, March 16, 2023; 8:30 a.m.-2:30 p.m. EST (7:30 a.m.-1:30 p.m. CST)

The AP will discuss and receive updates on Empirical Dynamic Modeling (EDM) Development for White and Brown Shrimp; the Southeast Data, Assessment, and Review (SEDAR) Research Track; the Hurricane Ian Assessment and the Florida Seafood Industry; Wind Energy Areas in the Gulf of Mexico; and Southeast Regional Office (SERO) Protected Resources Update, Sea Turtle Take and Turtle Excluder Device (TED) Compliance.

Lastly, the AP will receive any public testimony and discuss other business items, including a Status update on Gulf of Mexico Atlantic ecosystem model development.

—Meeting Adjourns

The in-person meeting will be broadcast via webinar. You may register by visiting www.gulfcouncil.org and clicking on the Shrimp Advisory Panel meeting on the calendar.

The Agenda is subject to change, and the latest version along with other meeting materials will be posted on www.gulfcouncil.org as they become available.

Although other non-emergency issues not on the agenda may come before the Advisory Panel for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take-action to address the emergency at least 5 working days prior to the meeting.

Special Accommodations

These meetings are physically accessible to people with disabilities. Requests for sign language interpretation or other auxiliary aid or accommodations should be directed to Kathy Pereira, kathy.pereira@gulfcouncil.org, at least 5 days prior to the meeting date.

Authority: 16 U.S.C. 1801 et seq.

Dated: February 16, 2023.
Rey Israel Marquez,
Acting Deputy Director, Office of Sustainable Fisheries, National Marine Fisheries Service.

[FR Doc. 2023-03647 Filed 2-21-23; 8:45 am]

BILLING CODE 3510-22-P